INTERNATIONAL TRADE COMMISSION

[Investigation Nos. 701-TA-595-596 and 731-TA-1401, 1403, 1405-1406 (Final)]

Large Diameter Welded Pipe From Canada, Greece, Korea, and Turkey; Scheduling of the Final Phase of Antidumping and Countervailing Duty Investigations

AGENCY: United States International Trade Commission.

ACTION: Notice.

DATES: March 6 2019.

FOR FURTHER INFORMATION CONTACT: Lawrence Jones (202) 205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective August 27, 2018, the Commission established a general schedule for the conduct of the final phase of its investigations on large diameter welded (LDW) pipe from Canada, China, Greece, India, Korea, and Turkey,¹ following preliminary determinations by the U.S. Department of Commerce (“Commerce”) that certain benefits which constitute subsidies within the meaning of section 703 of the Act (19 U.S.C. 1671b) are being provided to manufacturers, producers, or exporters in China, India, Korea, and Turkey of large diameter welded (LDW) pipe, and that such products from Canada, China, Greece, India, Korea, and Turkey are being sold in the United States at less than fair value (LTFV) within the meaning of section 733 of the Act (19 U.S.C. 1673b).² Notice of the scheduling of the final phase of the Commission's investigations and of a public hearing held in connection therewith was given by posting copies of the notice in the Office of the Secretary, U.S. International Trade Commission, Washington, DC, and by publishing the notice in the Federal Register on September 6, 2018 (83 FR 45279). The hearing was held in Washington, DC, on November 6, 2018, and all persons who requested the opportunity were permitted to appear in person or by counsel. Following affirmative final determinations by Commerce regarding LTFV and subsidized imports of LDW pipe from China and India, the Commission issued its final determinations that an industry in the United States was materially injured by reason of LTFV and subsidized imports of LDW line pipe from India; that an industry in the United States is materially injured by reason of LTFV and subsidized imports of LDW structural pipe from China; and that an industry in the United States is threatened with material injury by reason of LTFV imports of LDW line pipe from China. Further, the Commission has terminated the countervailing duty investigation on LDW line pipe from China and the antidumping and countervailing duty investigations on LDW structural pipe from India. Finally, the Commission has determined that an industry in the United States is not materially injured or threatened with material injury by reason of LTFV and subsidized imports of stainless steel LDW pipe from China and India.

¹ Large Diameter Welded Pipe From Canada, China, Greece, India, Korea, and Turkey; Scheduling of the Final Phase of Countervailing Duty and Antidumping Duty Investigations, 83 FR 45279, September 6, 2018.

² See generally 83 FR 30690-30699, June 29, 2018, and 83 FR 43640-43656, August 27, 2018.

Commerce has issued final affirmative determinations with respect to LTFV imports of LDW pipe from Canada,³ Greece,⁴ Korea,⁵ and Turkey,⁶ and imports of LDW pipe subsidized by the governments of Korea⁷ and Turkey.⁸ Accordingly, the Commission currently is issuing a supplemental schedule for its investigations on LTFV imports of LDW pipe from Canada, Greece, Korea, and Turkey, and on imports of LDW pipe subsidized by the governments of Korea and Turkey. This supplemental schedule is as follows: the deadline for filing supplemental party comments on Commerce's final antidumping and countervailing duty determinations is March 11, 2019. Supplemental party comments may address only Commerce's final determinations regarding LTFV imports of LDW pipe from Canada, Greece, Korea, and Turkey and imports of LDW pipe subsidized by the governments of Korea and Turkey. These supplemental final comments may not contain new factual information and may not exceed five (5) pages in length. The supplemental staff report in the final phase of these investigations regarding subject imports from Canada, Greece, Korea, and Turkey will be placed in the nonpublic record on March 21, 2019; and a public version will be issued thereafter.

³ Large Diameter Welded Pipe From Canada: Final Affirmative Determination of Sales at Less Than Fair Value, 84 FR 6378, February 27, 2019.

⁴ Large Diameter Welded Pipe From Greece: Final Affirmative Determination of Sales at Less Than Fair Value, 84 FR 6364, February 27, 2019.

⁵ Large Diameter Welded Pipe From the Republic of Korea: Final Affirmative Determination of Sales at Less Than Fair Value, 84 FR 6374, February 27, 2019.

⁶ Large Diameter Welded Pipe From the Republic of Turkey: Final Affirmative Determination of Sales at Less Than Fair Value, 84 FR 6367, February 27, 2019.

⁷ Large Diameter Welded Pipe From the Republic of Korea: Final Affirmative Countervailing Duty Determination, 84 FR 6369, February 27, 2019.

⁸ Large Diameter Welded Pipe From the Republic of Turkey: Final Affirmative Countervailing Duty Determination, 84 FR 6367, February 27, 2019.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: March 7, 2019.
William Bishop,
Supervisory Hearings and Information Officer.

[FR Doc. 2019-04476 Filed 3-11-19; 8:45 am]

BILLING CODE 7020-02-P